DEPARTMENT OF AGRICULTURE

Animal and Plant Health Inspection Service

[Docket No. 04-116-2]

Public Meeting; Veterinary Biologics

AGENCY: Animal and Plant Health Inspection Service, USDA.

ACTION: Notice of public meeting.

SUMMARY: This is the second notice to producers and users of veterinary biological products, and other interested individuals, that we will be holding our 13th public meeting to discuss regulatory and policy issues related to the manufacture, distribution, and use of veterinary biological products. This notice provides information on the agenda as well as the dates, times, and place of the meeting. It also indicates a contact person for obtaining registration forms, lodging information, and copies of the agenda.

DATES: The public meeting will be held Wednesday, April 6, through Friday, April 8, 2005, from 1 p.m. to approximately 5 p.m. on Wednesday, 8 a.m. to approximately 5 p.m. on Thursday, and from 8 a.m. to approximately noon on Friday.

ADDRESSES: The public meeting will be held in the Scheman Conference Center at the Iowa State Center, Ames, IA.

FOR FURTHER INFORMATION CONTACT: Ms. Nicole Ruffcorn, Center for Veterinary Biologics, VS, APHIS, 510 South 17th Street, Suite 104, Ames, IA 50010-8197; phone (515) 232-5785, fax (515) 232-7120; or e-mail: Nicole.L.Ruffcorn@aphis.usda.gov.

SUPPLEMENTARY INFORMATION: In a notice published in the Federal Register on November 4, 2004 (69 FR 64268, Docket No. 04-116-1), we announced that we would be holding our 13th annual veterinary biologics public meeting and requested that interested persons submit suggestions for agenda topics. Based on the responses and on other considerations, the agenda for the 13th public meeting will include, but is not limited to, the following:

• Bovine spongiform encephalopathy experience, epidemiology aspects, and impact on veterinary biologics;

• Autogenous biologics issues—Industry, user, and regulatory perspectives;

• Veterinary Services program diseases update;

• Veterinary Services polices and processes related to the importation, and transportation of organisms, including select agents;

• Animal Care update;

• Center for Veterinary Biologics regulatory initiatives;

• Technical harmonization issues; and

• Novel technologies.

In addition, updates on current topics of interest in the form of handouts and information stations will include, but not be limited to: Quality Assurance, the Ames Information Management System, document processing (outlines, labels), regulatory updates, shipping permits, the Agriculture Bioterrorism Act of 2002, export certificates, the APHIS Science Fellows Project, Administrative Inspection Reviews, investigations, and the National Centers for Animal Health.

Registration forms, lodging information, and copies of the agenda for the 13th public meeting may be obtained from the person listed under FOR FURTHER INFORMATION CONTACT. This information is also available on the Internet at http://www.aphis.usda.gov/vs/cvb.

The registration deadline is March 26, 2005. A block of hotel rooms has been set aside for this meeting until March 14, 2005. Early reservation of rooms is strongly encouraged.

Done in Washington, DC, this 31st day of January 2005.
Elizabeth E. Gaston,
Acting Administrator, Animal and Plant Health Inspection Service.

[FR Doc. 05-2152 Filed 2-3-05; 8:45 am]

BILLING CODE 3410-34-P